DEPARTMENT OF HOMELAND SECURITY

Federal Emergency Management Agency

[Docket ID FEMA-2023-0002; Internal Agency Docket No. FEMA-B-2352]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
California: Ventura | City of Thousand Oaks (23-09-0130P). | The Honorable Kevin McNamee, Mayor, City of Thousand Oaks, 2100 Thousand Oaks Boulevard, Thousand Oaks, CA 91362. | Public Works Department, 2100 Thousand Oaks Boulevard, Thousand Oaks, CA 91362. | https://msc.fema.gov/portal/advanceSearch. | Sep. 6, 2023 | 060422
Colorado:
Adams | City of Northglenn (22-08-0686P). | The Honorable Meredith Leighty, Mayor, City of Northglenn, 11701 Community Center Drive, Northglenn, CO 80233. | City Hall, 11701 Community Center Drive, Northglenn, CO 80233. | https://msc.fema.gov/portal/advanceSearch. | Sep. 8, 2023 | 080257
Adams | City of Thornton (22-08-0686P). | The Honorable Jan Kulmann, Mayor, City of Thornton, 9500 Civic Center Drive, Thornton, CO 80229. | City Hall, 9500 Civic Center Drive, Thornton, CO 80229. | https://msc.fema.gov/portal/advanceSearch. | Sep. 8, 2023 | 080007
Connecticut: Fairfield | Town of Wilton (22-01-0739P). | Lynne Vanderslice, First Selectperson, Town of Wilton, 238 Danbury Road, Wilton, CT 06897. | Town Hall, 238 Danbury Road, Wilton, CT 06897. | https://msc.fema.gov/portal/advanceSearch. | Aug. 25, 2023 | 090020
Delaware: New Castle | Unincorporated areas of New Castle County (23-03-0350P). | Matthew Meyer, New Castle County Executive, 87 Reads Way, New Castle, DE 19720. | New Castle County Land Use Department, 87 Reads Way, New Castle, DE 19720. | https://msc.fema.gov/portal/advanceSearch. | Sep. 7, 2023 | 105085
Florida:
Charlotte | Unincorporated areas of Charlotte County (22-04-5489P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Sep. 6, 2023 | 120061
Polk | Unincorporated areas of Polk County (22-04-3447P). | Bill Beasley, Polk County Manager, 330 West Church Street, Bartow, FL 33831. | Polk County Land Development Division, 330 West Church Street, Bartow, FL 33831. | https://msc.fema.gov/portal/advanceSearch. | Sep. 7, 2023 | 120261
Sumter | City of Coleman (22-04-4974P). | The Honorable Milton Hill, Mayor, City of Coleman, P.O. Box 456, Coleman, FL 33521. | Water Department, 3502 East Warm Springs Avenue, Coleman, FL 33521. | https://msc.fema.gov/portal/advanceSearch. | Sep. 1, 2023 | 120616
Sumter | City of Wildwood (22-04-4974P). | The Honorable Ed Wolf, Mayor, City of Wildwood, 100 North Main Street, Wildwood, FL 34785. | City Hall, 100 North Main Street, Wildwood, FL 34785. | https://msc.fema.gov/portal/advanceSearch. | Sep. 1, 2023 | 120299
Massachusetts: Barnstable | Town of Falmouth (23-01-0305P). | Nancy R. Taylor, Chair, Town of Falmouth Select Board, 59 Town Hall Square, Falmouth, MA 02540. | Building Department, 59 Town Hall Square,Falmouth, MA 02540. | https://msc.fema.gov/portal/advanceSearch. | Sep. 11, 2023 | 255211
Montana: Gallatin | Unincorporated areas of Gallatin County (23-08-0301P). | Zach Brown, Chair, Gallatin County Commission, 311 West Main Street, Room 306, Bozeman, MT 59715. | Gallatin County Department of Planning and Community Development, 311 West Main Street, Room 108, Bozeman, MT 59715. | https://msc.fema.gov/portal/advanceSearch. | Sep. 18, 2023 | 300027
Pennsylvania:
Dauphin | Township of South Hanover (22-03-1207P). | Lynn Wuestner, Township of South Hanover Manager, 161 Patriot Way, Hershey, PA 17033. | Township Hall, 161 Patriot Way, Hershey, PA 17033. | https://msc.fema.gov/portal/advanceSearch. | Sep. 1, 2023 | 420395
Montgomery | Township of Upper Dublin (22-03-0783P). | Kurt Ferguson, Township of Upper Dublin Manager, 370 Commerce Drive, Fort Washington, PA 19034. | Community Planning and Zoning Department, 370 Commerce Drive, Fort Washington, PA 19034. | https://msc.fema.gov/portal/advanceSearch. | Sep. 11, 2023 | 420708
Tennessee: Hamilton | Unincorporated areas of Hamilton County (22-04-4850P). | The Honorable Weston Wamp, Mayor, Hamilton County, 625 Georgia Avenue, Chattanooga, TN 37402. | Hamilton County Engineering Department, 1250 Market Street, Suite 3046, Chattanooga, TN 37402. | https://msc.fema.gov/portal/advanceSearch. | Aug. 28, 2023 | 470071
Texas:
Bexar | Unincorporated areas of Bexar County (22-06-1980P). | The Honorable Peter Sakai, Bexar County Judge, 101 West Nueva Street, 10th Floor, San Antonio, TX 78205. | Bexar County Public Works Department, 1948 Probandt Street, San Antonio, TX 78205. | https://msc.fema.gov/portal/advanceSearch. | Aug. 28, 2023 | 480035
Collin | City of Lowry Crossing (22-06-2654P). | The Honorable Bob Petitt, Mayor, City of Lowry Crossing, 1405 South Bridgefarmer Road, Lowry Crossing, TX 75069. | City Hall, 1405 South Bridgefarmer Road, Lowry Crossing, TX 75069. | https://msc.fema.gov/portal/advanceSearch. | Aug. 28, 2023 | 481631
Collin | City of Melissa (22-06-2373P). | The Honorable Jay Northcut, Mayor, City of Melissa, 3411 Barker Avenue, Melissa, TX 75454. | City Hall, 3411 Barker Avenue, Melissa, TX 75454. | https://msc.fema.gov/portal/advanceSearch. | Sep. 5, 2023 | 481626
Collin | Unincorporated areas of Collin County (22-06-2373P). | The Honorable Chris Hill, Collin County Judge, 2300 Bloomdale Road, Suite 4192, McKinney, TX 75071. | Collin County Administration Building, 2300 Bloomdale Road, Suite 4192, McKinney, TX 75071. | https://msc.fema.gov/portal/advanceSearch. | Sep. 5, 2023 | 480130
Collin | Unincorporated areas of Collin County (22-06-2654P). | The Honorable Chris Hill, Collin County Judge, 2300 Bloomdale Road, Suite 4192, McKinney, TX 75071. | Collin County Engineering Department, 4690 Community Avenue, Suite 200, McKinney, TX 75071. | https://msc.fema.gov/portal/advanceSearch. | Aug. 28, 2023 | 480130
Dallas | City of Mesquite (22-06-2973P). | The Honorable Daniel Aleman, Jr., Mayor, City of Mesquite, P.O. Box 850137, Mesquite, TX 75185. | George A. Venner Sr. Municipal Center, 1515 North Galloway Avenue, Mesquite, TX 75149. | https://msc.fema.gov/portal/advanceSearch. | Sep. 5, 2023 | 485490
Montgomery | Unincorporated areas of Montgomery County (23-06-0661P). | The Honorable Mark J. Keough, Montgomery County Judge, 501 North Thompson, Suite 401, Conroe, TX 77301. | Montgomery County Alan B. Sadler Commissioners Court Building, 501 North Thompson, Suite 100, Conroe, TX 77301. | https://msc.fema.gov/portal/advanceSearch. | Aug. 24, 2023 | 480483
Tarrant | City of Grand Prairie (22-06-2829P). | The Honorable Ron Jensen, Mayor, City of Grand Prairie, P.O. Box 534045, Grand Prairie, TX 75053. | City Hall, 300 West Main Street, Grand Prairie, TX 75050. | https://msc.fema.gov/portal/advanceSearch. | Aug. 10, 2023 | 485472
Tarrant | City of Fort Worth (22-06-2756P). | The Honorable Mattie Parker, Mayor, City of Fort Worth, 200 Texas Street, Fort Worth, TX 76102. | T/PW Engineering Vault, 200 Texas Street, Fort Worth, TX 76102. | https://msc.fema.gov/portal/advanceSearch. | Sep. 11, 2023 | 480596
Tarrant | Unincorporated areas of Tarrant County (22-06-2756P). | The Honorable Tim O'Hare, Tarrant County Judge, 100 East Weatherford Street, Suite 501, Fort Worth, TX 76196. | Tarrant County Administration Building, 100 East Weatherford Street, Fort Worth, TX 76196. | https://msc.fema.gov/portal/advanceSearch. | Sep. 11, 2023 | 480582
Travis | Unincorporated areas of Travis County (22-06-2414P). | The Honorable Andy Brown, Travis County Judge, P.O. Box 1748, Austin, TX 78767. | Travis County Transportation and Natural Resources Department, 700 Lavaca Street, 5th Floor, Austin, TX 78701. | https://msc.fema.gov/portal/advanceSearch. | Aug. 28, 2023 | 481026
Virginia: Prince William | City of Manassas (22-03-1152P). | W. Patrick Pate, City of Manassas Manager, 9027 Center Street, Manassas, VA 20110. | City Hall, 9027 Center Street, Manassas, VA 20110. | https://msc.fema.gov/portal/advanceSearch. | Sep. 1, 2023 | 510122

[FR Doc. 2023-14087 Filed 6-30-23; 8:45 am]

BILLING CODE 9110-12-P